BUREAU OF CONSUMER FINANCIAL PROTECTION

Privacy Act of 1974, as Amended

AGENCY: Bureau of Consumer Financial Protection.

ACTION: Notice of a Revised Privacy Act System of Records.

SUMMARY: In accordance with the Privacy Act of 1974, as amended, the Bureau of Consumer Financial Protection, hereinto referred to as the Consumer Financial Protection Bureau (CFPB or Bureau), gives notice of the establishment of a revised Privacy Act System of Records.

DATES: Comments must be received no later than September 16, 2013. The new system of records will be effective September 25, 2013, unless the comments received result in a contrary determination.

ADDRESSES: You may submit comments by any of the following methods:

• Electronic: privacy@cfpb.gov.

• Mail/Hand Delivery/Courier: Claire Stapleton, Chief Privacy Officer, Consumer Financial Protection Bureau, 1700 G Street NW., Washington, DC 20552.

Comments will be available for public inspection and copying at 1700 G Street NW., Washington, DC 20552 on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1700 G Street NW., Washington, DC 20552, (202) 435-7220.

SUPPLEMENTARY INFORMATION: The CFPB revises its Privacy Act System of Records Notice (SORN) “CFPB.006—Social Networks and Citizen Engagement System.” In revising this SORN, the CFPB modifies the authorities under which this system is maintained; modifies the purpose(s) for which the system is maintained; modifies the notification procedures for individuals seeking access to records maintained in this system; modifies the system location, system manager(s) and address; consolidates two routine uses (previously routine uses 6 and 7) which include the disclosure of personally identifiable information (PII) from the system to the U.S. Department of Justice (DOJ) for its use in providing legal advice to the CFPB or in representing the CFPB in a legal proceeding; and provides clarifying language in the categories of individuals for the system, the categories of records for the system, the retention and disposal of records in the system, and the record source categories for the system.

The report of the revised system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000,¹ and the Privacy Act, 5 U.S.C. 552a(r).

¹ Although the CFPB, under 12 U.S.C. 5497(a)(4)(E), is not legally required to follow OMB-issued guidance, it voluntarily follows OMB privacy-related guidance as a best practice and to facilitate cooperation and collaboration with other agencies.

The revised system of records entitled “CFPB.006—Social Networks and Citizen Engagement System” is published in its entirety below.

Dated: August 13, 2013.
Claire Stapleton,
Chief Privacy Officer, Bureau of Consumer Financial Protection.

CFPB.006

SYSTEM NAME:

Social Networks and Citizen Engagement System

SYSTEM LOCATION:

Consumer Financial Protection Bureau, 1700 G Street NW., Washington, DC 20552.

CATEGORIES OF INDIVIDUALS COVERED BY THE SYSTEM:

Users of social media who interact with the CFPB through the Bureau's Web site, or through various social media outlets, including but not limited to third-party sites and services such as Facebook, Twitter, YouTube, LinkedIn, and Flickr. Other covered individuals may include those who sign on to various parts of the CFPB Web site with a user identity provided by a third-party, including but not limited to sites and services such as Disqus, Facebook, and Twitter. These may be members of the public, employees, or contractors.

CATEGORIES OF RECORDS IN THE SYSTEM:

Records maintained in the system may contain information that an individual shares voluntarily with the CFPB through various social media sites and services. They may also contain information that is stored to ensure that an individual can access Web sites where a login is required. This may include without limitation: name, username, email address, birth date, security questions, IP addresses, location, passwords, authentication, business affiliation, demographic information, videos, photos, and other general information.

AUTHORITY FOR MAINTENANCE OF THE SYSTEM:

Public Law 111-203, Title X, Sections 1011, 1012, 1021, codified at 12 U.S.C. 5491, 5492, 5511. Executive Order 13571, Streamlining Service Delivery and Improving Customer Service, April 27, 2011.

PURPOSE(S):

The information in the system is being collected to facilitate internal and external interactions concerning the CFPB and CFPB programs. The use of social media platforms will increase collaboration and transparency with the public, as well as employees and contractors. The use of social media will enable the CFPB to interact with the public in effective and meaningful ways, encourage the wide sharing of information regarding consumer financial issues and the strengthening of an online community of consumers, and ensure that critical information about the agency and key consumer finance issues is distributed.

ROUTINE USES OF RECORDS MAINTAINED IN THE SYSTEM, INCLUDING CATEGORIES OF USERS AND THE PURPOSES OF SUCH USES:

These records may be disclosed, consistent with the CFPB's Disclosure of Records and Information Rules, promulgated at 12 CFR 1070 et seq., to:

(1) Appropriate agencies, entities, and persons when: (a) The CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to (a) permit a decision as to access, amendment or correction of records to be made in consultation with or by that agency, or (b) verify the identity of an individual or the accuracy of information submitted by an individual who has requested access to or amendment or correction of records;

(3) The Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) The DOJ for its use in providing legal advice to the CFPB or in representing the CFPB in a proceeding before a court, adjudicative body, or other administrative body, where the use of such information by the DOJ is deemed by the CFPB to be relevant and necessary to the advice or proceeding, and such proceeding names as a party in interest:

(a) The CFPB;

(b) Any employee of the CFPB in his or her official capacity;

(c) Any employee of the CFPB in his or her individual capacity where DOJ has agreed to represent the employee; or

(d) The United States, where the CFPB determines that litigation is likely to affect the CFPB or any of its components;

(7) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings; and

(8) Appropriate federal, state, local, foreign, tribal, or self-regulatory organizations or agencies responsible for investigating, prosecuting, enforcing, implementing, issuing, or carrying out a statute, rule, regulation, order, policy, or license if the information may be relevant to a potential violation of civil or criminal law, rule, regulation, order, policy or license.

POLICIES AND PRACTICES FOR STORING, RETRIEVING, ACCESSING, RETAINING, AND DISPOSING OF RECORDS IN THE SYSTEM:

STORAGE:

Paper and electronic records.

RETRIEVABILITY:

Records are retrievable by full-text search. Records may also be retrieved by personal identifiers, which may include without limitation: name, username, email address, IP addresses, geographic information, and demographic information.

SAFEGUARDS:

Access to electronic records that are not otherwise available to the general public by virtue of their presence on social media sites is restricted to authorized personnel who have been issued non-transferrable access codes and passwords. Other records are maintained in locked file cabinets or rooms with access limited to those personnel whose official duties require access.

RETENTION AND DISPOSAL:

The CFPB will manage all computer and paper files in the system as permanent records until the disposition schedule for these records is approved by the National Archives and Records Administration, at which time, the CFPB will dispose of such files in accordance with the schedule.

SYSTEM MANAGER(S) AND ADDRESS:

Consumer Financial Protection Bureau, Assistant Director, Consumer Engagement, 1700 G Street NW., Washington, DC 20552.

NOTIFICATION PROCEDURE:

Individuals seeking notification and access to any record contained in this system of records, or seeking to contest its content, may inquire in writing in accordance with instructions appearing the CFPB's Disclosure of Records and Information Rules, promulgated at 12 CFR 1070 et seq. Address such requests to: Chief Privacy Officer, Bureau of Consumer Financial Protection, 1700 G Street NW., Washington, DC 20552.

RECORD ACCESS PROCEDURES:

See “Notification Procedures” above.

CONTESTING RECORD PROCEDURES:

See “Notification Procedures” above.

RECORD SOURCE CATEGORIES:

Information in this system is obtained from individuals who voluntarily interact with the CFPB through various social media sites and services, or as a result of public outreach.

EXEMPTIONS CLAIMED FOR THE SYSTEM:

None.

[FR Doc. 2013-19971 Filed 8-15-13; 8:45 am]

BILLING CODE 4810-AM-P